DEPARTMENT OF TRANSPORTATION

Federal Railroad Administration

[Docket No. FRA-2021-0006-N-3]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before July 16, 2021.

ADDRESSES: Written comments and recommendations for the proposed ICR should be submitted on regulations.gov to the docket, Docket No. FRA 2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Kim Toone, Information Collection Clearance Officer, at email: Kim.Toone@dot.gov or telephone: (202) 493-6132.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Grants Management Requirements for Federal Railroad Administration. Grant Awards and Cooperative Agreements.

OMB Control Number: 2130-0615.

Abstract: This ICR is a revision of a currently approved collection, Grant Management Requirements for Federal Railroad Administration. Specifically, FRA is revising FRA Form 217 Categorical Exclusion Worksheet with this submission. All other forms associated with this collection, which OMB re-approved on January 7, 2021, remain unchanged. The forms for which FRA seeks renewal of its currently approved collection are listed below.

Form(s): All FRA forms (Fs) are located at FRA's public website; all Standard Forms (SFs) are located at Grants.gov. The FRA forms are: 30 (FRA Assurance and Certifications Regarding Lobbying; Debarment, Suspension and Other Responsibility Matters and Drug-Free Workplace Requirements), 31 (Grant Adjustment Require Form), 32 (Service Outcome Agreement Annual Reporting), 33 (Final Performance Report), 34 (Quarterly Progress Report), 35 (Application Form), 217 (Categorical Exclusion Worksheet), 229 (NIST Manufacturing Extension Partnership Supplier Scouting—FRA Item Opportunity Synopsis), 251 (Applicant Financial Capability Questionnaire), and 252 (Payment Summary Spreadsheet). The SFs are: 270 (Request for Advance or Reimbursement), 424 (Application for Federal Assistance), 424A (Budget Information for Non-Construction Programs), 424B (Assurance for Non-Construction Programs), 424C (Budget Information for Construction Programs), 424D (Assurances for Construction Programs), 425 (Federal Financial Report), and LLL (Disclosure of Lobbying Activities).

Type of Request: Revision of a currently approved collection.

Affected Public: Generally includes States and local governments and railroads.

Frequency of Submission: Varied; on occasion/monthly.

Reporting Burden:

Form name | Form | Grant activity/process | Total annual responses | Average time (hours) per response | Total annual burden hours | Total annual dollar cost equivalent
Grant Application (FRA F 35) | FRA F 35 | Application | 250 | 34 | 8,500.00 | $348,415.00
Application for Federal Assistance (SF 424) | SF 424 | Application | 250 | 1.1 | 275.00 | 11,272.25
Budget Information for Non-Construction Programs (SF 424A) | SF 424A | Application | 75 | 3 | 225.00 | 9,222.75
Assurances for Non-Construction Programs (SF 424B) | SF 424B | Application | 75 | 0.25 | 18.75 | 768.56
Budget Information for Construction Programs (SF 424C) | SF 424C | Application | 175 | 3 | 525.00 | 21,519.75
Assurances for Construction Programs (SF 424D) | SF 424D | Application | 175 | 0.25 | 43.75 | 1,793.31
Disclosure of Lobbying Activities (SF LLL) | SF LLL | Application | 250 | 0.17 | 42.50 | 1,742.08
Applicant Financial Capability Questionnaire (FRA F 251) | FRA F 251 | Application | 168 | 2 | 336.00 | 13,772.64
FRA Assurances and Certifications Regarding Lobbying; Debarment, Suspension and Other Responsibility Matters and Drug-Free Workplace Requirements (FRA F 30) | FRA F 30 | Application | 250 | 0.25 | 62.50 | 2,561.88
Federal Financial Report (125 new awardees submit each quarter; 125 × 4 = 500) (SF 425; new awards) | SF 425 | Awards & Maintenance | 500 | 1.5 | 750.00 | 30,742.50
Federal Financial Report (216 existing awardees submit each quarter; 216 × 4 = 864) (SF 425; existing grantees) | SF 425 | Awards & Maintenance | 864 | 1.5 | 1,296.00 | 53,123.04
Request for Advance or Reimbursement (SF 270) | SF 270 | Awards & Maintenance | 860 | 1 | 860.00 | 35,251.40
Payment Summary Spreadsheet (FRA F 252) | SF 252 | Awards & Maintenance | 860 | 0.5 | 430.00 | 17,625.70
Quarterly Progress Report (125 new awardees submit each quarter; 125 × 4 = 500) (FRA F 34; new awards) | FRA F 34 | Awards & Maintenance | 500 | 2 | 1,000.00 | 40,990.00
Quarterly Progress Report (216 existing awardees submit each quarter; 216 × 4 = 864) (FRA F 34; existing grantees) | FRA F 34 | Awards & Maintenance | 864 | 2 | 1,728.00 | 70,830.72
Grant Adjustment Request Form (FRA F 31) | FRA F 31 | Awards & Maintenance | 212 | 1 | 212.00 | 8,689.88
Service Outcome Agreement (SOA) Annual Reporting (FRA F 32) | FRA F 32 | Awards & Maintenance | 24 | 1 | 24.00 | 983.76
Certification of Compliance or Non-Compliance with Buy America Requirements for Steel, Iron, or Manufactured Products being produced by Awardee (narrative request) | n/a | Buy America Component | 15 | 3 | 45.00 | 1,844.55
Certification of Compliance with Buy America for Rolling Stock (narrative request) | n/a | Buy America Component | 1 | 62 | 62.00 | 2,541.38
Waivers—Requests/Applications for Waivers, excluding FRA F 229 (narrative request) | n/a | Buy America Component | 15 | 80 | 1,200 | 49,188.00
NIST Manufacturing Extension Partnership Supplier Scouting—FRA—Item Opportunity Synopsis (FRA F 229) | FRA F 229 | Buy America Component | 15 | 18 | 270.00 | 11,067.30
Awardee Investigations (including FRA initiated investigations) | n/a | Buy America Component | 3 | 333 | 999.00 | 40,949.01
Awardee direct reply to FRA after request to conduct investigation of bidder/offeror (narrative request) | n/a | Buy America Component | 2 | 1 | 2.00 | 81.98
Additional Documents to FRA from Awardee/Investigated Party (narrative request) | n/a | Buy America Component | 1 | 4 | 4.00 | 163.96
Transmission of Awardee/Bidder/Offeror Reply to Petitioner (narrative request) | n/a | Buy America Component | 2 | 0.5 | 1.00 | 40.99
Awardee/Investigated Bidder/Offeror response to Petitioner Comment (narrative request) | n/a | Buy America Component | 1 | 8 | 8.00 | 327.92
Written request to FRA for information bearing on substance of investigation which has been submitted by petitioner, interested parties, or awardees (narrative request) | n/a | Buy America Component | 1 | 4 | 4.00 | 163.96
Detailed Statement to FRA Regarding Confidentiality of Previously Submitted Information to Agency (narrative request) | n/a | Buy America Component | 1 | 8 | 8.00 | 327.92
Awardee Determination to make award before resolution of investigation one of this sections specified reasons (narrative request) | n/a | Buy America Component | 1 | 40 | 40.00 | 1,639.60
Notification to FRA by Awardee to make award during pendency of investigation (narrative request) | n/a | Buy America Component | 1 | 1 | 1.00 | 40.99
Request to FRA for Reconsideration of Initial Decision by Party Involved in Investigations (narrative request) | n/a | Buy America Component | 1 | 80 | 80.00 | 3,279.20
Pre-Award Audit (narrative request) | n/a | Buy America Component | 1 | 33 | 33.00 | 1,352.67
Final Contract between Awardee and Bidder/Offeror (narrative request) | n/a | Buy America Component | 1 | 16 | 16.00 | 655.84
Post Award Audit (narrative request) | n/a | Buy America Component | 1 | 256 | 256.00 | 10,493.44
Rolling Stock Domestic Content Improvement Plans (narrative request) | n/a | Buy America Component | 1 | 120 | 120.00 | 4,918.80
Categorical Exclusion Worksheet (FRA F 217) | FRA 217 | Awards & Maintenance | 75 | 1 | 75 | 3,074.25
Final Performance Report (FRA F 33) | FRA 33 | Closeout | 79 | 8 | 632.00 | 25,905.68
Total |  |  | 6,570 | 1,131.02 | 20,184.50 | 827,362.66

Total Estimated Annual Responses: 6,570.

Total Estimated Annual Burden: 20,184.50 hours.

Total Estimated Annual Burden Hour Dollar Cost Equivalent: $827,362.66.

Under 44 U.S.C. 3507(a) and 5 CFR 1320.5(b) and 1320.8(b)(3)(vi), FRA informs all interested parties that a respondent is not required to respond to, conduct, or sponsor a collection of information unless it displays a currently valid OMB control number.

Authority: 44 U.S.C. 3501-3520.

Brett A. Jortland,
Acting Chief Counsel.

[FR Doc. 2021-10326 Filed 5-14-21; 8:45 am]

BILLING CODE 4910-06-P